DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, 5 U.S.C. App. 2, the United States Department of Agriculture announces the appointments made by the Secretary of Agriculture to the 8 vacancies on the National Agricultural Research, Extension, Education, and Economics Advisory Board.

DATES: Appointments by the Secretary of Agriculture are for a 1, 2, or 3-year term, effective October 1, 2011 until September 30, 2014.

ADDRESSES: National Agricultural Research, Extension, Education, and Economics Advisory Board Office, Room 3901, South Building, U.S. Department of Agriculture; STOP 0321; 1400 Independence Avenue SW., Washington, DC 20250-0002

FOR FURTHER INFORMATION CONTACT: Robert Burk, Executive Director, National Agricultural Research, Extension, Education, and Economics Advisory Board, Research, Education, and Economics Advisory Board Office, Room 3901, South Building, U.S. Department of Agriculture; STOP 0321; 1400 Independence Avenue SW., Washington, DC 20250-0002, Telephone: (202) 720-3684, Fax: (202) 720-6199, or email: Robert.burk@ars.usda.gov.

SUPPLEMENTARY INFORMATION: Section 802 of the Federal Agricultural Improvement and Reform Act of 1996 authorized the creation of the National Agricultural Research, Extension, Education and Economics Advisory Board. The Board is composed of 25 members, each representing a specific category related to agriculture. The Board was first appointed in September 1996 and at the time one-third of the original members were appointed for one, two, and three-year term, respectively. Due to the staggered appointments, the terms for 8 of the 25 members expired September 30, 2011. Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees to the 8 available member positions are as follows: Category B. “Farm Cooperatives,” Jean-Mari Peltier, Former President, National Council for Farmers Cooperatives and President, National Grape & Wine Initiative, Sacramento, CA (Re-appointment—1 year); James P. Goodman, Owner/Farmer, Northwood Farm, Wonewoc, WI (Alternate, Appointment—2 years beginning October 1, 2012); Category D. “Plant Commodity Producer,” Richard F. Schlosser, Farmer, Edgely, ND (Appointment—3 years); Category E. “National Aquaculture Association,” James E. Parsons, Member, National Aquaculture Association and Senior Vice President, Troutlodge, Inc., Sumner, WA (Appointment—3 years); Category H. “National Food Science Organization, Dr. Mark R. McLellan, Member, Institute of Food Technologists and Vice President of Research & Dean of the School of Graduate Studies, Utah State University, Logan, UT (Appointment—3 years); Category J. “National Nutritional Science Society,” Dr. Adriana Campa, Member, American Dietetic Association/American Society of Nutrition and Associate Professor of Nutrition, Florida International University, Miami, FL (Appointment—3 years); Category K. “1862 Land-Grant Colleges and Universities,” Dr. Milo J. Shult, Vice President for Agriculture—Emeritus, University of Arkansas System, Doss, TX (Re-appointment to 3 year term); Category M. “1994 Equity in Education Land-Grant Institutions,” Chad Waukechon, Dean, Community Programs, College of Menominee Nation, Keshena, WI (Re-appointment to 3 year term); Category Y. “National Social Science Association,” Dr. Dawn Thilmany, Member, Agricultural and Applied Economics Association and Professor, Colorado State University Department of Agriculture and Resource Economics, Fort Collins, CO (Appointment—3 years).

Done at Washington, DC, this 30th day of November 2011.
Catherine Woteki,
Under Secretary, Research, Education, and Economics.

[FR Doc. 2011-32345 Filed 12-15-11; 8:45 am]

BILLING CODE 3410-03-P